DEPARTMENT OF COMMERCE

International Trade Administration

Consortium for Astro-Particle Research in Utah et al., Notice of Consolidated Decision on Applications for Duty-Free Entry of Scientific Instruments

This is a decision consolidated pursuant to Section 6(c) of the Educational, Scientific, and Cultural Materials Importation Act of 1966 (Pub. L. 89-651, 80 Stat. 897; 15 CFR part 301). Related records can be viewed between 8:30 a.m. and 5 p.m. in Suite 4100W, Franklin Court Building, U.S. Department of Commerce, 1099 14th Street, NW., Washington, DC.

Comments: None received. Decision: Approved. No instrument of equivalent scientific value to the foreign instruments described below, for such purposes as each is intended to be used, is being manufactured in the United States.

Docket Number: 05-057. Applicant: Consortium for Astro-particle Research in Utah/University of Utah, Salt Lake City, Utah. Instrument: Fluorescent Telescope Array; with Ground Scintillator, Laser Atmosphere Monitor and LAN Network. Manufacturer: Various; Japan, UK. Intended use: See Notice at 71 FR 4895, January 30, 2006. Reasons: These instrument systems when deployed in Utah are capable of conducting a joint US-Japan led scientific project to measure the energy, pointing direction and chemical composition of ultra high energy cosmic rays using both the fluorescence technique, which uses large telescopes to observe fluorescent tracks from cosmic ray showers in the atmosphere and the secondary shower charged particle technique, which uses ground-based light sensing photo-tubes and counters to measure the number and timing of particle arrivals. Results obtained by these techniques can be cross correlated, compared and evaluated for developing more precise measurements and to provide information about likely celestial sources of the cosmic rays observed.

Docket Number: 05-059. Applicant: College of Staten Island, Staten Island, NY. Instrument: Plasma System. Manufacturer: Diener Electronic GmBh & Co., KG, Germany. Intended Use: See Notice at 71 FR 10649, March 2, 2006. Reasons: The foreign article is a compatible, (sole source) accessory for existing instrumentation for materials research. It consists of a plasma type microwave generator with a glass chamber for conducting semiconductor processing procedures. It can be used to develop and study:

1. Nanotechnolgy with focused ion beams, including electronic properties of carbon nanowires direct written with nano-scaled ion beams on carbonaceous substrates

2. Micro- and nano-scale light emitting diodes on diamond, with the aim to develop single molecule and single photon electrically driven light sources operating at room temperature

3. High-pressure, high-temperature diamond anvil cells with internally heated anvils for hydrothermal and shear stress experiments.

The instrument will also be used in courses on materials science.

These instruments are pertinent to each applicant's needs and we know of no other instrument or apparatus being manufactured in the United States which is of equivalent scientific value to either of the foreign instruments.

Gerald A. Zerdy,
Program Manager, Statutory Import Programs Staff.

[FR Doc. E6-5193 Filed 4-7-06; 8:45 am]

Billing Code: 3510-DS-S